SOCIAL SECURITY ADMINISTRATION

[Docket No. SSA 2021-0051]

Notice of Open Enrollment and Fee Increase for Our Electronic Consent Based Social Security Number Verification Service

AGENCY: Social Security Administration.

ACTION: Notice of open enrollment; fee increase.

SUMMARY: The Social Security Administration (SSA) is announcing open enrollment and a change in the subscription tier structure and associated fees for the electronic Consent Based Social Security Number (SSN) Verification (eCBSV) service. SSA will open eCBSV enrollment in Fiscal Year (FY) 2022, to interested permitted entities (PEs), as defined in section 215 of the Economic Growth, Regulatory Relief, and Consumer Protection Act (i.e., the Banking Bill). The open enrollment period for PEs will begin on February 21, 2022 and remain open indefinitely. In accordance with statutory requirements, PEs will be required to provide payment to reimburse SSA for the development and support of the eCBSV system.

DATES:

Applicability date for open enrollment: Open eCBSV enrollment for PEs will commence February 21, 2022, at 6:00 a.m. EST.

Applicability date for fee increase: The revised subscription tier structure and associated fees will go into effect for subscription payments made on or after April 25, 2022.

FOR FURTHER INFORMATION CONTACT: Christopher David, Office of Data Exchange, Policy Publications, and International Negotiations, Social Security Administration, 6401 Security Boulevard, Baltimore, Maryland 21235-6401, (866) 395-8801, email eCBSV@ssa.gov.

For information on eligibility or filing for benefits, call SSA's national toll-free number, 1-800-772-1213 or TTY 1-800-325-0778, or visit SSA's internet site, Social Security Online, at http://www.socialsecurity.gov.

SUPPLEMENTARY INFORMATION: Section 215 of the Banking Bill directs SSA to modify or develop a database for accepting and comparing fraud protection data ¹ provided electronically by a PE.² In response to this statutory directive, SSA created eCBSV, a fee-based SSN verification service. eCBSV allows PEs to submit, after receipt of the number holder's consent,³ the SSN, name, and date of birth of the number holder to SSA for verification via an application programming interface. Each PE must submit a statement that the PE is in compliance with the Banking Bill ⁴ in the comment section of their application to SSA.

¹ The Banking Bill defines “fraud protection data” to mean a combination of an individual's name (including the first name and any family forename or surname), SSN, and date of birth (including month, day, and year). Public Law 115-174, Title II, 215(b)(3), codified at 42 U.S.C. 405b(b)(3).

² The Banking Bill defines a “permitted entity” to mean a financial institution or service provider, subsidiary, affiliate, agent, subcontractor, or assignee of a financial institution. Public Law 115-174, Title II, 215(b)(4), codified at 42 U.S.C. 405b(b)(4).

³ Valid, signed consent must include a wet or electronic signature. Electronic signatures must meet the definition in section 106 of the Electronic Signatures in Global and National Commerce Act (15 U.S.C. 7006) and SSA requirements. 42 U.S.C. 405b(f)(2). The written consent must clearly specify to whom the information may be disclosed, the information you want us to disclose (i.e., SSN verification) and, where applicable, during which timeframe the information may be disclosed (i.e., within either the time specified on the Written Consent, or within 90 calendar days from the date the SSN holder signs the Written Consent). See 20 CFR 401.100(b).

⁴ The permitted entity must certify that (1) the entity is a permitted entity; (2) the entity is in compliance with section 215; (3) the entity is, and will remain, in compliance with its privacy and data security requirements in Title V of 15 U.S.C. 6801, et seq., with respect to the information the entity receives from the Commissioner of Social Security pursuant to this section; and (4) the entity will retain sufficient records to demonstrate its compliance with its certification and section 215 for a period of not less than 2 years. 42 U.S.C. 405b(e)(1)-(3).

Enrollment

SSA successfully implemented the eCBSV expanded rollout in FY 2021 to the remaining PEs that had previously submitted a valid application but were not selected as part of the limited initial rollout. eCBSV expanded rollout participation remains markedly lower than estimated by the financial industry and will result in increased fees to recover program costs incurred, as required by the Banking Bill.

To encourage increased program participation, SSA will open eCBSV enrollment in February 2022, to interested PEs, as defined in section 215 of the Banking Bill. The enrollment period to register for this service will open on February 21, 2022, at 6:00 a.m. EST, and will remain open indefinitely. After a thorough analysis, we determined that establishing an open-ended enrollment satisfies the requirements of the Banking Bill, helps increase program participation and transaction volumes, and aids in recovering costs. Additionally, opening the program to interested PEs starting February 21, 2022, provides new PEs with the flexibility to enroll at current subscription rates before the fee increase takes effect on April 25, 2022.

PEs who wish to enroll, must:

• Complete the technical registration requirements

• use the eCBSV “Permitted Entity Registration” screen to provide company information

• electronically sign an EIN Consent

• receive their OAuth Client ID from SSA

• configure requesting application to access the eCBSV Customer Connection and provide contact information

• review, agree, and electronically sign the Permitted Entity Certification

• review, agree, initial to all terms and conditions, and electronically sign the user agreement

• purchase the tier subscription based on expected transaction volume

Fees

The public cost burden is dependent upon the number of PEs using the service and the annual transaction volume. To date, 11 PEs enrolled out of 123 applications received to participate in eCBSV. We based the revised tier fee schedule below on 45 participating PEs in FY 2022 submitting an anticipated volume of 280,000,000 transactions. The total cost for developing the service is $50,000,000 through FY 2021, and SSA will recover the cost over a three-year period, assuming projected enrollments and transaction volumes meet our projections.

eCBSV Tier Fee Schedule
Tier | Annual volume threshold | Annual fee
1 | Up to 1,000 (1-1,000) | $400
2 | Up to 10,000 (1,001-10,000) | 3,500
3 | Up to 200,000 (10,001-200,000) | 40,000
4 | Up to 1 million (200,001-1 million) | 315,000
5 | Up to 20 million (1,000,001-20 million) | 1,500,000
6 | Up to 50 million (20,000,001-50 million) | 4,000,000
7 | Over 50 million (50,000,001 and over) | 7,500,000

Each enrolled PE will be required to remit the above tier-based subscription fee for the 365-day agreement period starting on or after April 25, 2022. Fees are calculated based on forecasted systems and operational expenses, agency oversight, overhead, and Certified Public Accountant (CPA) audit contract costs. Effective April 25, 2022, SSA will no longer charge a separate administrative fee in addition to the tier-based subscription fee.

Section 215(h)(1)(A) of the Banking Bill requires that the Commissioner shall “periodically adjust” the price paid by users. On at least an annual basis, SSA will monitor costs incurred to provide eCBSV services and will revise the tier fee schedule accordingly. We will notify PEs of the tier fee schedule in effect at the renewal of eCBSV user agreements, and via notice in the Federal Register. At that time, PEs can cancel the agreement or renew service according to the new tier fee schedule.

Michelle King,
Deputy Commissioner, for Budget, Finance, and Management.

[FR Doc. 2022-00638 Filed 1-13-22; 8:45 am]

BILLING CODE 4191-02-P